DEPARTMENT OF HOMELAND SECURITY

Coast Guard

[Docket No. USCG-2023-0330]

Removal of Smith Point Traffic Separation Scheme From Nautical Charts

AGENCY: Coast Guard, DHS.

ACTION: Notice.

SUMMARY: The Smith Point Traffic Separation Scheme (TSS) is a vessel traffic routing measure which lies on inland waters, at the mouth of the Potomac River. The Coast Guard announces its intention to have the TSS removed from the nautical charts, and from the U.S. Coast Pilot. We will also change the buoy which identifies the TSS from a special purpose lighted yellow buoy to a red and white striped lighted mid-channel buoy.

FOR FURTHER INFORMATION CONTACT: If you have questions about this notice, call or email Matthew Creelman, Marine Planner at Fifth Coast Guard District, telephone (757) 398-6230, email, Matthew.K.Creelman2@uscg.mil.

SUPPLEMENTARY INFORMATION:

I. Table of Abbreviations

FR Federal Register

DHS Department of Homeland Security

NOAA National Oceanic and Atmospheric Administration

TSS Traffic Separation Scheme

USCG United States Coast Guard, Department of Homeland Security

II. Background and Purpose

The Smith Point TSS, a vessel traffic routing measure, lies in inland waters, as defined in 33 CFR 2.26, in the Chesapeake Bay, at the mouth of the Potomac River, just south of the Maryland/Virginia border. It was never formally established by rule, and exists only as a notation on NOAA nautical charts. On August 21, 2023 (88 FR 56850), we issued a notice of inquiry, requesting comments on whether the TSS should be removed from the NOAA charts and the U.S. Coast Pilot. (Issued by NOAA, the U.S. Coast Pilot is a series of nautical books that cover a variety of information important to navigators of coastal and intracoastal waters and the Great Lakes.) There was 90-day comment period.

During the comment period, USCG received one comment. The comment, from the Association of Maryland Pilots, supported the decision to remove the TSS, noting that conditions have changed since the TSS was first listed on the nautical charts in 1969, and that today, the TSS is an impediment to safe navigation in the area. The TSS identifies separate northbound and southbound travel lanes which accommodated both lanes of vessel traffic in 1969, given the size of vessels operating in the area then. Today, however, vessels with deeper drafts, which are limited to operating in the waters the TSS covers, travel in the area, and they must travel in opposing lanes to avoid the risk of grounding.

The comment, and supporting documents, are available in the public docket and can be viewed at https://www.regulation.gov. To view documents, in the “Search” box insert “USCG-2023-0330” and click “Search.” Then select “Supporting & Related Material” in the Document Type column.

The Smith Point TSS no longer serves a useful purpose, and the notice of inquiry USCG published in August confirms that there are no concerns from the public about removing it and therefore the USCG has decided to move forward with the removal of the vessel traffic routing measure.

III. Authority and Action To Be Taken

Under 46 U.S.C. 70001(a)(4), as delegated, USCG may control vessel traffic in areas subject to the jurisdiction of the United States that it determines to be hazardous by, among other means, establishing vessel traffic routing schemes. Based on the analysis of historical vessel traffic patterns and the comment received, the Coast Guard will:

1. Request NOAA remove the Smith Point TSS chart feature from all applicable charts and update the U.S. Coast Pilot to remove the TSS and reflect changes to the on-scene navigational buoy the USCG will deploy.

2. Change the Smith Point Fairway Lighted Buoy SP (LLNR 7490) to Smith Point Lighted Buoy SP, a white and red striped Safe Water Buoy and the light will be changed from a yellow to white with a Morse Code “A” flash characteristic.

Dated: December 8, 2023.
Shannon N. Gilreath,
Rear Admiral, U.S. Coast Guard, Commander, Fifth Coast Guard District.

[FR Doc. 2023-27440 Filed 12-13-23; 8:45 am]

BILLING CODE 9110-04-P